DEPARTMENT OF HOMELAND SECURITY

Coast Guard

33 CFR Part 100

[Docket Number USCG-2025-0180]

RIN 1625-AA08

Special Local Regulation; Neuse and Trent Rivers, New Bern, NC

AGENCY: Coast Guard, DHS.

ACTION: Notice of proposed rulemaking.

SUMMARY: The Coast Guard is proposing to establish special local regulations (SLR) to provide for the safety of human life on certain waters of the Neuse and Trent Rivers during raft races to be held annually in New Bern, NC on select Saturdays in June. This proposed rulemaking would restrict non-participant access within the designated race area unless authorized by the Captain of the Port (COTP), Sector North Carolina or a designated representative. We invite your comments on this proposed rulemaking.

DATES: Comments and related material must be received by the Coast Guard on or before May 15, 2025.

ADDRESSES: You may submit comments identified by docket number USCG-2025-0180 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email LCDR Carl Hendrickson, Waterways Management, U.S. Coast Guard Sector North Carolina; telephone 571-610-2601, email d05-smb-secnc-marineevents@uscg.mil.

SUPPLEMENTARY INFORMATION:

I. Table of Abbreviations

CFR Code of Federal Regulations

COTP Captain of the Port, North Carolina

DHS Department of Homeland Security

FR Federal Register

NPRM Notice of proposed rulemaking

PATCOM Patrol Commander

§ Section

SLR Special Local Regulations

U.S.C. United States Code

II. Background, Purpose, and Legal Basis

The New Bern Area Chamber of Commerce has sponsored annual raft races on the navigable waters of the Neuse and Trent Rivers near New Bern, NC for six of the past seven years. These events involve numerous participants, homemade rafts, and multiple spectators operating within a concentrated area. Because of the inherent safety concerns arising from the complexity of these events, the COTP has previously issued marine permits imposing conditions on the event sponsor.

In recognition of the sponsor's intent to continue holding these events annually on select Saturdays in June, the Coast Guard is proposing to establish a permanent SLR. This SLR would establish navigation restrictions subject to enforcement during the specific dates and times of scheduled raft races. Further information about enforcement notification that would apply to this SLR is already set out at 33 CFR 100.501(g). The Coast Guard is proposing this rulemaking under authority in 46 U.S.C. 70041.

III. Discussion of Proposed Rule

The COTP is proposing to establish a SLR which would be subject to enforcement annually on the 1st, 2nd, 3rd, or 4th Saturday in June. The SLR would cover all navigable waters of the Neuse and Trent River on a predetermined course near Union Point in New Bern, NC. This predetermined course is detailed in the proposed regulatory text below. The period during which the safety zone would be subject to enforcement would not exceed eight hours and it would be timed to ensure the safety of human life on navigable waters before, during, and after the race. No non-participant vessel or person would be permitted to enter this area without obtaining permission from the COTP or a designated representative. The regulatory text we are proposing appears at the end of this document.

IV. Regulatory Analyses

We developed this proposed rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This NPRM has not been designated a “significant regulatory action” under section 3(f) of Executive Order 12866. Accordingly, the NPRM has not been subject to review by the Office of Management and Budget (OMB).

This regulatory action determination is based on the size, location, duration of the enforcement period, and time-of-day of the safety zone. Restrictions on the affected portions of the Neuse and Trent Rivers will be of limited duration and they are necessary for the safety of human life of participants and spectators of this event, as well as for the safety of non-participants who might otherwise be transiting through the regulated area. Moreover, the Coast Guard would issue a Broadcast Notice to Mariners via VHF-FM marine channel 16 about the special local regulations, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the designated race area may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

In the spirit of section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have Tribal implications under Executive Order 13175 (Consultation and Coordination with Indian Tribal Governments) because it would not have a substantial direct effect on one or more Indian Tribes, on the relationship between the Federal Government and Indian Tribes, or on the distribution of power and responsibilities between the Federal Government and Indian Tribes. If you believe this proposed rule has implications for federalism or Indian Tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that does not individually or cumulatively have a significant effect on the human environment. This proposed rule involves a special local regulation lasting 6.5 hours prohibiting entry in the designated race area. Normally, such actions are categorically excluded from further review under paragraph L61 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0188 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Harbors, Marine safety, Navigation (water), Reporting and recordkeeping requirements, Security measures, Waterways.

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. In § 100.501, amend Table 4 to paragraph (i)(4) by adding an entry, following the entry for the event titled “The Crossing,” for “The Great Trent Raft Race” to read as follows.

§ 100.501 Special Local Regulations; Marine Events Within the Fifth Coast Guard District.

* * * * *

(i) * * *

(4) * * *

Table 4 to Paragraph (i)(4)
Event | Regulated area | Enforcement ¹ period(s) | Sponsor
* * * * * * *
The Great Trent Raft Race | All navigable waters of the Neuse and Trent River encompassed by a line connecting the following points beginning at 35°6.250′ N 77°2.067′ W; thence to 35°6.183′ N 77°2.083′ W, thence to 35°6.167′ N 77°2.217′ W, thence to 35°6.100′ N 77°2.233′ W, thence to 35°6.083′ N 77°2.017′ W, thence to 35°6.233′ N 77°1.983′ W, and back to the beginning point. This area is near Union Point in New Bern, NC | Any Saturday in June | New Bern Area Chamber of Commerce.
* * * * * * *

T.J. List,
CAPT, U.S. Coast Guard, Captain of the Port Sector North Carolina.

[FR Doc. 2025-06370 Filed 4-14-25; 8:45 am]

BILLING CODE 9110-04-P